DEPARTMENT OF ENERGY

Federal Energy Regulatory Commission

[Project No. 5379-008]

New Hampshire Water Resources Board, Hydro Dynamics Corporation; Notice of Transfer of Exemption

1. By letter filed April 16, 2013, New Hampshire Water Resources Board co-exemptee and the New Hampshire Department of Environmental Services, as successor agency, and Hydro Dynamics Corporation as co-exemptee, Goffstown Hydro Corporation, successor in interest informed the Commission that the exemption from licensing for the Hadley Falls Project, FERC No. 5379, originally issued January 19, 1982,¹ has been transferred to the New Hampshire Department of Environmental Service, as sole exemptee. The project is located on the Piscataquog River in Hillsborough County, New Hampshire. The transfer of an exemption does not require Commission approval.

¹ 18 FERC ¶ 62,032, Order Granting Exemption From Licensing of a Small Hydroelectric Project of 5 Megawatts or Less.

2. New Hampshire Department of Environmental Services, located at 29 Hazen Drive, Concord, NH 03302 is now the sole exemptee of the Hadley Falls Project, FERC No. 5379.

Dated: May 30, 2013.
Kimberly D. Bose,
Secretary.

[FR Doc. 2013-13393 Filed 6-5-13; 8:45 am]

BILLING CODE 6717-01-P